ENVIRONMENTAL PROTECTION AGENCY

40 CFR Part 300

[FRL-7159-5]

National Oil and Hazardous Substance Pollution Contingency Plan; National Priorities List

AGENCY: Environmental Protection Agency (EPA).

ACTION: Removal of the direct final notice of deletion amendment.

SUMMARY: On November 28, 2001, EPA published a notice of intent to delete (66 FR 59393) and a direct final notice of deletion (66 FR 59363) for the Compass Industries Landfill Superfund Site from the National Priorities List. The EPA is removing the direct final notice of deletion amendment due to adverse comments that were received during the public comment period and restores the regulatory text that existed prior to the direct final notice of deletion.

EFFECTIVE DATE: This action is effective as of March 19, 2002.

ADDRESSES: Comprehensive information on the Site, as well as the comments that were received during the comment period are available at: Beverly Negri, Community Involvement Coordinator, U.S. EPA Region 6 (6SF-LP), 1445 Ross Avenue, Dallas, TX 75202-2733, (214) 665-8157 or 1-800-533-3508 (negri.beverly@epa.gov).

Information Repositories: Repositories have been established to provide detailed information concerning this decision at the following address: U.S. EPA Region 6 Library, 12th Floor, 1445 Ross Avenue, Suite 12D13, Dallas, Texas 75202-2733, (214) 665-6427, Monday through Friday 7:30 a.m. to 4:30 p.m.; Tulsa City-County Library, 400 Civic Center, Tulsa, Oklahoma, 74103, (918) 596-7977, Monday through Friday 9:00 a.m. to 9:00 p.m.; Friday and Saturday 9:00 a.m. to 5:00 p.m.; Sunday, September through mid-May 1:00 p.m. to 5:00 p.m.; Oklahoma Department of Environmental Quality, Contact: Eileen Hroch, 5th floor file room, 707 N. Robinson, P.O. Box 1677, Oklahoma City, Oklahoma, 73101, (405) 702-5100, Monday through Friday 8:30 a.m. to 3:30 p.m.

FOR FURTHER INFORMATION CONTACT: Katrina Coltrain, Remedial Project Manager (RPM), U.S. EPA Region 6 (6SF-LP), 1445 Ross Avenue, Dallas, TX 75202-2733, (214) 665-8143 or 1-800-533-3508 (coltrain.katrina@epa.gov).

List of Subjects in 40 CFR Part 300

Environmental protection, Air pollution control, Chemicals, Hazardous substances, Hazardous waste, Intergovernmental relations, Penalties, Reporting and recordkeeping requirements, Superfund, Water pollution control, Water supply.

Dated: March 1, 2002.
Lawrence E. Starfield,
Acting Deputy Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of appendix B is amended under Oklahoma (“OK”) by adding an entry, in alphabetical order, for “Compass Industries Landfill (Avery Drive)” to read as follows:

Appendix B to Part 300—National Priorities List

Table 1—General Superfund Section
State | Site name | City/County | Notes(a)
* * * * * * *
OK | Compass Industries Landfill (Avery Drive) | Tulsa
* * * * * * *

[FR Doc. 02-6485 Filed 3-18-02; 8:45 am]

BILLING CODE 6560-50-P